TENNESSEE VALLEY AUTHORITY

Meeting of the Regional Resource Stewardship Council

AGENCY: Tennessee Valley Authority (TVA).

ACTION: Notice of meeting.

SUMMARY: The TVA Regional Resource Stewardship Council (RRSC) will hold a meeting on Monday, October 22, and Tuesday, October 23, 2012, to obtain views and advice on the topic of a proposed fee increase for permits issued by TVA pursuant to Section 26a of the TVA Act.

The RRSC was established to advise TVA on its natural resource stewardship activities. Notice of this meeting is given under the Federal Advisory Committee Act (FACA), 5 U.S.C. App. 2.

The meeting agenda includes the following:

1. Introductions.

2. Updates regarding TVA's Natural Resource Plan Annual Review, including information about land condition assessments, dispersed recreation web applications, and cultural resources.

3. Presentation(s) concerning TVA's proposed fee increase for Section 26a permits

4. Public Comments.

5. Council Discussion and Advice.

The RRSC will hear opinions and views of citizens by providing a public comment session. The public comment session will be held at 9:30 a.m., EDT, on Tuesday, October 23. Persons wishing to speak are requested to register at the door by 8:30 a.m. on Tuesday, October 23 and will be called on during the public comment period. Handout materials should be limited to one printed page. Written comments are also invited and may be mailed to the Regional Resource Stewardship Council, Tennessee Valley Authority, 400 West Summit Hill Drive, WT-11 B, Knoxville, Tennessee 37902.

DATES: The meeting will be held on Monday, October 22, from 1:15 p.m. to 4:45 p.m. and Tuesday, October 23, from 8:00 a.m. to noon, EDT.

ADDRESSES: The meeting will be held at the Tennessee Valley Authority, 400 West Summit Hill Drive, 37902 and will be open to the public. Anyone needing special access or accommodations should let the contact below know at least a week in advance.

FOR FURTHER INFORMATION CONTACT: Beth Keel, 400 West Summit Hill Drive, WT-11 B, Knoxville, Tennessee 37902, (865) 632-6113.

Dated: September 28, 2012.
Joseph J. Hoagland,
Senior Vice President, Policy and Oversight, Tennessee Valley Authority.

[FR Doc. 2012-24485 Filed 10-3-12; 8:45 am]

BILLING CODE 8120-08-P